ENVIRONMENTAL PROTECTION AGENCY

[FRL -6864-4]

Science Advisory Board; Notification of Public Advisory Committee Meetings

Pursuant to the Federal Advisory Committee Act, Public Law 92-463, notice is hereby given that two committees of the US EPA Science Advisory Board (SAB) will meet on the dates and times noted below. All times noted are Eastern Daylight Time. All meetings are open to the public, however, seating is limited and available on a first come basis. Important Notice: Documents that are the subject of SAB reviews are normally available from the originating EPA office and are not available from the SAB Office—information concerning availability of documents from the relevant Program Office is included below.

1. Ecological Processes and Effects Committee (EPEC)—September 20-22, 2000

The Ecological Processes and Effects Committee (EPEC) will meet on September 20-22, 2000 in Room 6013 (the SAB Conference Room) of the Ariel Rios Building, 1200 Pennsylvania Ave, Washington, DC. The meeting will be open to the public, with seating on a first-come, first-served basis. The meeting will convene at 9:00 a.m. on September 20 and at 8:30 a.m. on September 21 and 22, and will end no later than 5:30 p.m. on each day.

The purpose of the meeting is for the Committee to continue work on a self-initiated project to offer advice to the Agency on the design and application of a science-based scheme for reporting on ecological condition. The Committee will discuss a proposed conceptual framework for reporting on ecological condition, and will apply the framework to several Agency examples or programs. Candidate programs that may be used as case examples include: the Environmental Monitoring and Assessment Program's (EMAP) Western Pilot, clean water objectives identified in EPA's 1997 Strategic Plan, the National Environmental Performance Partnership System (NEPPS) core measures, and the Forest Health Monitoring Program. As background to the project, the Committee was briefed in July 1998 by various Agency offices on efforts to develop performance measures and environmental indicators, as well as the Heinz Center project to develop a national environmental report card. The Committee met in April 2000 to discuss the components of a framework for reporting on ecological condition. Following the September 2000 meeting, the Committee expects to complete a report to the Agency describing a proposed reporting framework, with illustrative case examples relevant to EPA programs.

For Further Information—The proposed meeting agenda is available from Ms. Mary Winston, Committee Operations Staff, Science Advisory Board (1400A), U.S. EPA, 1200 Pennsylvania Ave., NW, Washington DC 20460, telephone (202) 564-4538, fax (202) 501-0582, or via e-mail at winston.mary@epa.gov.

Any member of the public wishing to submit oral comments must contact Ms. Stephanie Sanzone, Designated Federal Officer (DFO) for the Committee, in writing no later than 4:00 pm on September 15, 2000 at: EPA Science Advisory Board (1400A), Ariel Rios Building, Room 6450DD, 1200 Pennsylvania Ave, NW, Washington DC 20460; FAX (202) 501-0582; or e-mail at sanzone.stephanie@epa.gov. The request should identify the name of the individual who will make the presentation and an outline of the issues to be addressed. At least 35 copies of any written comments to the Committee are to be given to the DFO no later than the time of the presentation; these will be distributed to the Committee and the interested public.

2. Executive Committee (EC)—September 22, 2000

The Executive Committee (EC) of US EPA's Science Advisory Board will conduct a public teleconference meeting on Friday, September 22, 2000 between the hours of 11:00 am and 1:30 pm Eastern Daylight Time. The meeting will be coordinated through a conference call connection in Room 5530 in the USEPA, Ariel Rios Building North, 1200 Pennsylvania Avenue, NW, Washington, DC 20460. The public is encouraged to attend the meeting in the conference room noted above. However, the public may also attend through a telephonic link, to the extent that lines are available. Additional instructions about how to participate in the conference call can be obtained by calling Ms. Betty Fortune no earlier than one week prior to the meeting (beginning on September 15) at (202) 564-4533, or via e-mail at betty.fortune@epa.gov.

Purpose of the Meeting: In this meeting, the Executive Committee plans to review reports from some of its Committees/Subcommittee, most likely including the following:

(a) Drinking Water Committee (DWC): (a) Review of Certain Elements of the Proposed Arsenic Drinking Water Regulation; (b) Advisory on the Candidate Contaminant List Research Plan (for more details on the SAB review of these two issues, please refer to 65 Federal Register 30589, May 12, 2000 and 65 Federal Register 44051 July 17, 2000, respectively).

(b) Radiation Advisory Committee (RAC): (a) Advisory on Approach for Mining Technologically Enhanced Naturally Occurring Radioactive Material (TENORM) (for more details on the SAB review of this issue, please refer to 65 Federal Register 18095, April 6, 2000).

(c) Integrated Human Exposure Committee (IHEC): (a) Review of the National Human Exposure Assessment Survey (NHEXAS) (for more details on the SAB review of this issue, please refer to 65 Federal Register 35632, June 5, 2000).

Please check with our staff prior to the meeting to determine which reports will be on the agenda as last minutes changes can take place.

Availability of Review Materials: Drafts of the reports that will be reviewed at the meeting will be available to the public at the SAB website (http://www.epa.gov/sab) by close-of-business on September 13, 2000.

For Further Information: Any member of the public wishing further information concerning this meeting or wishing to submit brief oral comments must contact Dr. Donald Barnes, Designated Federal Officer, Science Advisory Board (1400A), U.S. Environmental Protection Agency, 1200 Pennsylvania Avenue, NW, Washington, DC 20460; telephone (202) 564-4533; FAX (202) 501-0323; or via e-mail at barnes.don@epa.gov. Requests for oral comments must be in writing (e-mail preferred) and received by Dr. Barnes no later than noon Eastern Time on September 15, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information: Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access: Individuals requiring special accommodation at these meetings, including wheelchair access to the conference room, should contact the appropriate DFO at least five business days prior to the meeting so that appropriate arrangements can be made.

Dated: August 28, 2000.
Donald G. Barnes,
Staff Director, Science Advisory Board.

[FR Doc. 00-22655 Filed 9-1-00; 8:45 am]

BILLING CODE 6560-50-P